DEPARTMENT OF TRANSPORTATION

Office of the Secretary

Aviation Proceedings, Agreements Filed the Week Ending April 22, 2005

The following Agreements were filed with the Department of Transportation under the provisions of 49 U.S.C. Sections 412 and 414. Answers may be filed within 21 days after the filing of the application.

Docket Number: OST-2005-21049.

Date Filed: April 20, 2005.

Parties: Members of the International Air Transport Association.

Subject:

PTC3 0860 dated 22 April 2005.

Mail Vote 446—Resolution 010p—TC3 Special Passenger.

Amending Resolution betweeen Japan and China excluding Hong Kong SAR and Macao SAR r1-r9.

Intended effective date: 25 April 2005.

Renee V. Wright,
Acting Program Manager, Docket Operations, Alternate Federal Register Liaison.

[FR Doc. 05-8868 Filed 5-3-05; 8:45 am]

BILLING CODE 4910-62-P